DEPARTMENT OF THE INTERIOR

Bureau of Land Management

43 CFR Part 1820

[WO-850-1820-XZ-24-1A]

RIN 1004-AD34

Application Procedures; Correction

AGENCY: Bureau of Land Management, Interior.

ACTION: Final rule; correction.

SUMMARY: The Bureau of Land Management (BLM) published a final rule in the Federal Register of May 6, 2002, containing the new address of the BLM Oregon State Office, which moved in January 2002. Inadvertently, we omitted the amendatory language for the change. This document corrects that error.

EFFECTIVE DATE: May 31, 2002.

FOR FURTHER INFORMATION CONTACT: Michael H. Schwartz, (202) 452-5198. Persons who use a telecommunications device for the deaf (TDD) may call the Federal Information Relay Service at 1-800-877-8339, 24 hours a day, 7 days a week.

SUPPLEMENTARY INFORMATION: The BLM published a final rule in the Federal Register of May 6, 2002, containing the new address of the BLM Oregon State Office, which moved in January 2002. Inadvertently, we omitted amendatory language for the change. This document corrects that error.

In the Federal Register of May 6, 2002 (67 FR 30329), in the first column of page 30329, following the authority citation, add the following amendatory language:

2. Amend § 1821.10 by revising paragraph (a) to read as follows:

Dated: May 28, 2002.
Michael H. Schwartz,
Group Manager, Regulatory Affairs.

[FR Doc. 02-13737 Filed 5-30-02; 8:45 am]

BILLING CODE 4310-84-M